DEPARTMENT OF JUSTICE

Drug Enforcement Administration

[Docket No. DEA-392]

Importer of Controlled Substances Application: Clinical Supplies Management Holdings, Inc.

ACTION: Notice of application.

DATES: Registered bulk importers of the affected basic classes, and applicants therefore, may file written comments on or objections to the issuance of the proposed registration on or before September 25, 2019. Such persons may also file a written request for a hearing on the application on or before September 25, 2019.

ADDRESSES: Written comments should be sent to: Drug Enforcement Administration, Attention: DEA Federal Register Representative/DPW, 8701 Morrissette Drive, Springfield, Virginia 22152. All requests for a hearing must be sent to: Drug Enforcement Administration, Attn: Administrator, 8701 Morrissette Drive, Springfield, Virginia 22152. All requests for a hearing should also be sent to: (1) Drug Enforcement Administration, Attn: Hearing Clerk/OALJ, 8701 Morrissette Drive, Springfield, Virginia 22152; and (2) Drug Enforcement Administration, Attn: DEA Federal Register Representative/DPW, 8701 Morrissette Drive, Springfield, Virginia 22152.

SUPPLEMENTARY INFORMATION: In accordance with 21 CFR 1301.34(a), this is notice that on June 5, 2019, Clinical Supplies Management Holdings, Inc., 342 42nd Street South, Fargo, North Dakota 58103 applied to be registered as an importer of the following basic classes of controlled substances:

Controlled substance | Drug code | Schedule
Marihuana | 7360 | I
Tetrahydrocannabinols | 7370 | I

The company plans to import listed controlled substances in their finished dosage form for use in clinical trials only. Drug codes 7350 (marihuana extract) and 7360 (marihuana) will be used for the manufacture of cannabidiol only.

Dated: August 9, 2019.
Neil D. Doherty,
Acting Assistant Administrator.

[FR Doc. 2019-18320 Filed 8-23-19; 8:45 am]

BILLING CODE 4410-09-P